DEPARTMENT OF THE TREASURY

Customs Service

Notice of Cancellation of Customs Broker License

AGENCY: Customs Service, Department of the Treasury.

ACTION: General notice.

SUMMARY: Pursuant to section 641 of the Tariff Act of 1930, as amended, (19 U.S.C. 1641) and the Customs Regulations (19 CFR 111.51), the following Customs broker license and any and all associated local and national permits are canceled without prejudice.

Name | License No. | Issuing port
Americana Brokers | 11126 | Great Falls.

Dated: January 13, 2003.
Jayson P. Ahern,
Assistant Commissioner, Office of Field Operations.

[FR Doc. 03-1277 Filed 1-21-03; 8:45 am]

BILLING CODE 4820-02-P